Title 3—

The President

Memorandum of January 5, 2012

Delegation of a Certain Function and Authority Conferred Upon the President by Section 1235(c) of the Ike Skelton National Defense Authorization Act for Fiscal Year 2011

Memorandum for the Secretary of State

By the authority vested in me as President by the Constitution and the laws of the United States, including section 301 of title 3, United States Code, I hereby delegate to you the function and authority conferred upon the President by section 1235(c) of the Ike Skelton National Defense Authorization Act for Fiscal Year 2011, Public Law 111-383, to make the specified report to the Committees on Armed Services, Foreign Relations, Homeland Security and Governmental Affairs, and Appropriations of the Senate and the Committees on Armed Services, Foreign Affairs, Oversight and Government Reform, and Appropriations of the House of Representatives.

You are authorized and directed to publish this memorandum in the Federal Register.

THE WHITE HOUSE,

Washington, January 5, 2012

[FR Doc. 2012-1544

Filed 1-23-12; 8:45 am]

Billing code 4710-10-P